DEPARTMENT OF HEALTH AND HUMAN SERVICES

National Institutes of Health

Center for Scientific Review; Amended Notice of Meeting

Notice is hereby given of a change in the meeting of the Center for Scientific Review Special Emphasis Panel, October 03, 2013, 12:00 p.m. to October 03, 2013, 03:00 p.m., National Institutes of Health, 6701 Rockledge Drive, Bethesda, MD 20892, which was published in the Federal Register on September 05, 2013, 78 FR 54665.

The meeting will be held on November 25, 2013 from 04:30 p.m. to 07:30 p.m. The meeting location remains the same. The meeting is closed to the public.

Dated: November 13, 2013.
David Clary,
Program Analyst, Office of Federal Advisory Committee Policy.

[FR Doc. 2013-27589 Filed 11-18-13; 8:45 am]

BILLING CODE 4140-01-P